DEPARTMENT OF AGRICULTURE

Forest Service

36 CFR Part 293

Wilderness_Primitive Areas; Fixed Anchors in Wilderness

AGENCY: Forest Service, USDA.

ACTION: Negotiated rulemaking committee meeting.

SUMMARY: The Secretary of Agriculture has established a negotiated rulemaking committee to develop recommendations for a proposed rule addressing the placement, use, and removal of fixed anchors used for recreational rock climbing purposes in congressionally designated wilderness areas administered by the Forest Service. The Fixed Anchors in Wilderness Negotiated Rulemaking Advisory Committee is composed of individuals representing a cross section of interests with a definable stake in the outcome of the proposed rule. The Committee has been established in accordance with the provisions of the Federal Advisory Committee Act and is engaged in the process of rulemaking pursuant to the provisions of the Negotiated Rulemaking Act. The Committee has held meetings in June, July, and August and will hold a fourth meeting in September. All meetings of the committee are open to public attendance.

DATES: The next meeting of the advisory committee will be held in Golden, Colorado, on September 19-20. The meeting is scheduled from 8 a.m. to 5:30 p.m. on the first day and from 8 a.m. to 3:30 p.m. on the second day.

ADDRESSES: The advisory committee meeting will be held in the auditorium of the Rocky Mountain Regional Office, Forest Service, USDA, 740 Simms St., Golden, Colorado on September 19 and next door to the Regional Office at the Best Western—Denver West Motel conference room, located at 11595 W. 6th Avenue, Lakewood, CO, on September 20.

FOR FURTHER INFORMATION CONTACT: Jerry Stokes, Wilderness Program Manager, Recreation, Heritage, and Wilderness Resources Staff, (202) 205-0925.

Dated: August 25, 2000.
Sally D. Collins,
Deputy Chief, National Forest System.

[FR Doc. 00-22911 Filed 9-6-00; 8:45 am]

BILLING CODE 3410-11-M